DEPARTMENT OF HOMELAND SECURITY

Federal Emergency Management Agency

[Docket ID FEMA-2022-0002; Internal Agency Docket No. FEMA-B-2259]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Yavapai | Town of Chino Valley (21-09-0899P) | The Honorable Jack W. Miller, Mayor, Town of Chino Valley, 202 North State Route 89, Chino Valley, AZ 86323 | Development Services and Planning Department, 1982 Voss Drive, Suite 203, Chino Valley, AZ 86323 | https://msc.fema.gov/portal/advanceSearch | Oct. 28, 2022 | 040094
Yavapai | Unincorporated areas of Yavapai County (21-09-0899P) | The Honorable Mary L. Mallory, Chair, Yavapai County, Board of Supervisors, 1015 Fair Street, Prescott, AZ 86305 | Yavapai County Flood Control District, 1120 Commerce Drive, Prescott, AZ 86305 | https://msc.fema.gov/portal/advanceSearch | Oct. 28, 2022 | 040093
Colorado: Arapahoe | Unincorporated areas of Arapahoe County (21-08-0286P) | The Honorable Nancy Jackson, Chair, Arapahoe County, Board of Commissioners, 5334 South Prince Street, Littleton, CO 80120 | Arapahoe County Public Works and Development Department, 6924 South Lima Street, Centennial, CO 80112 | https://msc.fema.gov/portal/advanceSearch | Nov. 14, 2022 | 080011
Delaware: Sussex | Unincorporated areas of Sussex County (22-03-0052P) | The Honorable Michael H. Vincent, President, Sussex County Council, P.O. Box 589, Georgetown, DE 19947 | Sussex County Planning and Zoning Department, 2 The Circle, Georgetown, DE 19947 | https://msc.fema.gov/portal/advanceSearch | Oct. 13, 2022 | 100029
Florida:
Alachua | Unincorporated areas of Alachua County (22-04-1999P) | The Honorable Marihelen Wheeler, Chair, Alachua County, Board of Commissioners, 12 Southeast 1st Street, Gainesville, FL 32601 | Alachua County Public Works Department, 5620 Northwest 120th Lane, Gainesville, FL 32653 | https://msc.fema.gov/portal/advanceSearch | Nov. 2, 2022 | 120001
Broward | City of Lighthouse Point (22-04-0733P) | The Honorable Kyle Van Buskirk, Mayor, City of Lighthouse Point, 2200 Northeast 38th Street, Lighthouse Point, FL 33064 | Building Department, 3701 Northeast 22nd Avenue, Lighthouse Point, FL 33064 | https://msc.fema.gov/portal/advanceSearch | Nov. 2, 2022 | 125125
Collier | City of Naples (22-04-3060P) | The Honorable Teresa Heitmann, Mayor, City of Naples, 735 8th Street South, Naples, FL 34102 | Building Department, 295 Riverside Circle, Naples, FL 34102 | https://msc.fema.gov/portal/advanceSearch | Nov. 7, 2022 | 125130
Lee | Unincorporated areas of Lee County (22-04-1388P) | Roger Desjarlais, Manager, Lee County, 2115 2nd Street, Fort Myers, FL 33901 | Lee County Building Department, 1500 Monroe Street, Fort Myers, FL 33901 | https://msc.fema.gov/portal/advanceSearch | Nov. 4, 2022 | 125124
Osceola | City of St. Cloud (21-04-4346P) | Bill Sturgeon, Manager, City of St. Cloud, 1300 9th Street, St. Cloud, FL 34769 | Building Department, 1300 9th Street, St. Cloud, FL 34769 | https://msc.fema.gov/portal/advanceSearch | Nov. 4, 2022 | 120191
Osceola | Unincorporated areas of Osceola County (21-04-4346P) | Don Fisher, Manager, Osceola County, 1 Courthouse Square, Suite 4700, Kissimmee, FL 34741 | Osceola County Public Works Department, 1 Courthouse Square, Suite 3100, Kissimmee, FL 34741 | https://msc.fema.gov/portal/advanceSearch | Nov. 4, 2022 | 120189
St. Johns | Unincorporated areas of St. Johns County (21-04-4854P) | Hunter Conrad, St. Johns County Administrator, 500 San Sebastian View, St. Augustine, FL 32084 | St. Johns County Planning Department, 4040 Lewis Speedway, St. Augustine, FL 32084 | https://msc.fema.gov/portal/advanceSearch | Oct. 31, 2022 | 125147
New Hampshire: Carroll | Town of Jackson (22-01-0604P) | The Honorable Barbara Campbell, Chair, Town of Jackson, Board of Selectmen, 54 Main Street, Jackson, NH 03846 | Building Department, 54 Main Street, Jackson, NH 03846 | https://msc.fema.gov/portal/advanceSearch | Oct. 11, 2022 | 330014
North Carolina:
Durham | City of Durham (21-04-3214P) | The Honorable Elaine O'Neal, Mayor, City of Durham, 101 City Hall Plaza, Durham, NC 27701 | Durham City-County Hall, 101 City Hall Plaza, Durham, NC 27701 | https://msc.fema.gov/portal/advanceSearch | Jul. 28, 2022 | 370086
Forsyth | City of Winston-Salem (21-04-4302P) | The Honorable Allen Joines, Mayor, City of Winston-Salem, P.O. Box 2511, Winston-Salem, NC 27102 | Winston-Salem Planning and Development Services Department, 100 East 1st Street, Winston-Salem, NC 27101 | https://msc.fema.gov/portal/advanceSearch | Jul. 21, 2022 | 375360
North Dakota: Cass | City of Arthur (21-08-1023P) | The Honorable Greg Nelson, Mayor, City of Arthur, P.O. Box 161, Arthur, ND 58006 | City Hall, 325 1st Street, Arthur, ND 58006 | https://msc.fema.gov/portal/advanceSearch | Oct. 6, 2022 | 380156
Pennsylvania: Chester | Borough of Downingtown (22-03-0225P) | Stephen T. Sullins, Manager, Borough of Downingtown, 4-10 West Lancaster Avenue, Downingtown, PA 19335 | Borough Hall, 4-10 West Lancaster Avenue, Downingtown, PA 19335 | https://msc.fema.gov/portal/advanceSearch | Oct. 31, 2022 | 420275
Rhode Island: Newport | Town of Little Compton (22-01-0157P) | Antonio A. Teixeira, Town of Little Compton Administrator, P.O. Box 226, Little Compton, RI 02837 | Building Department, 40 Commons, Little Compton, RI 02837 | https://msc.fema.gov/portal/advanceSearch | Oct. 24, 2022 | 440035
Texas:
Bell | City of Killeen (21-06-3142P) | The Honorable Debbie Nash-King, Mayor, City of Killeen, P.O. Box 1329, Killeen, TX 76541 | City Hall, 101 North College Street, Killeen, TX 76541 | https://msc.fema.gov/portal/advanceSearch | Oct. 28, 2022 | 480031
Dallas | City of Carrollton (22-06-0338P) | The Honorable Steve Babick, Mayor, City of Carrollton, P.O. Box 110535, Carrollton, TX 75011 | Engineering Department, 1945 East Jackson Road, Carrollton, TX 75006 | https://msc.fema.gov/portal/advanceSearch | Oct. 31, 2022 | 480167
Tarrant | City of Arlington (22-06-0336P) | The Honorable Jim Ross, Mayor, City of Arlington, P.O. Box 90231, Arlington, TX 76004 | Public Works and Transportation Department, 101 West Abram Street, Arlington, TX 76010 | https://msc.fema.gov/portal/advanceSearch | Nov. 7, 2022 | 485454
Tarrant | City of Fort Worth (22-06-0336P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Nov. 7, 2022 | 480596
Tarrant | City of Fort Worth (22-06-0844P) | The Honorable Mattie Parker, Mayor, City of Fort Worth, 200 Texas Street, Fort Worth, TX 76102 | Department of Transportation and Public Works, Engineering Vault and Map Repository, 200 Texas Street, Fort Worth, TX 76102 | https://msc.fema.gov/portal/advanceSearch | Nov. 7, 2022 | 480596
Tarrant | City of Grand Prairie (21-06-2937P) | The Honorable Ron Jensen, Mayor, City of Grand Prairie, P.O. Box 534045, Grand Prairie, TX 75053 | City Hall, 205 West Church Street, Grand Prairie, TX 75050 | https://msc.fema.gov/portal/advanceSearch | Nov. 14, 2022 | 485472
Tarrant | Unincorporated areas of Tarrant County (22-06-0844P) | The Honorable B. Glen Whitley, Tarrant County Judge, 100 East Weatherford Street, Fort Worth, TX 76196 | Tarrant County, Administration Building, 100 East Weatherford Street, Fort Worth, TX 76196 | https://msc.fema.gov/portal/advanceSearch | Nov. 7, 2022 | 480582
Travis | City of Pflugerville (21-06-2969P) | The Honorable Victor Gonzales, Mayor, City of Pflugerville, 100 East Main Street, Suite 300, Pflugerville, TX 78660 | Development Services Center, 100 West Main Street, Pflugerville, TX 78660 | https://msc.fema.gov/portal/advanceSearch | Oct. 31, 2022 | 481028
Travis | Unincorporated areas of Travis County (21-06-2969P) | The Honorable Andy Brown, Travis County Judge, P.O. Box 1448, Austin, TX 78767 | Travis County, Transportation and Natural Resources Department, 700 Lavaca Street, 5th Floor, Austin, TX 78701 | https://msc.fema.gov/portal/advanceSearch | Oct. 31, 2022 | 481026
Williamson | City of Hutto (21-06-3058P) | The Honorable Mike Snyder, Mayor, City of Hutto, 500 West Live Oak Street, Hutto, TX 78634 | City Hall, 500 West Live Oak Street, Hutto, TX 78634 | https://msc.fema.gov/portal/advanceSearch | Oct. 31, 2022 | 481047
Williamson | Unincorporated areas of Williamson County (21-06-3058P) | The Honorable Bill Gravell, Jr., Williamson County Judge, 710 South Main Street, Suite 101, Georgetown, TX 78626 | Williamson County, Engineering Department, 3151 Southeast Inner Loop, Georgetown, TX 78626 | https://msc.fema.gov/portal/advanceSearch | Oct. 31, 2022 | 481079
Wyoming:
Big Horn | Town of Greybull (22-08-0396P) | The Honorable Myles Foley, Mayor, Town of Greybull, 24 South 5th Street, Greybull, WY 82426 | Town Hall, 24 South 5th Street, Greybull, WY 82426 | https://msc.fema.gov/portal/advanceSearch | Oct. 21, 2022 | 560005
Big Horn | Unincorporated areas of Big Horn County (22-08-0396P) | The Honorable Dave Neves, Chair, Big Horn County Commissioners, P.O. Box 7, Emblem, WY 82422 | Big Horn County, Engineering Department, 425 Murphy Street, Basin, WY 82410 | https://msc.fema.gov/portal/advanceSearch | Oct. 21, 2022 | 560004

[FR Doc. 2022-16758 Filed 8-3-22; 8:45 am]

BILLING CODE 9110-12-P